SECURITIES AND EXCHANGE COMMISSION

Sunshine Act Meetings

FEDERAL REGISTER CITATION OF PREVIOUS ANNOUNCEMENT: 86 FR 1557, January 8, 2021.

PREVIOUSLY ANNOUNCED TIME AND DATE OF THE MEETING: Wednesday, January 13, 2021 at 2:00 p.m.

CHANGES IN THE MEETING: The Closed Meeting scheduled for Wednesday, January 13, 2021 at 2:00 p.m. has been changed to Wednesday, January 13, 2021 at 2:30 p.m. In addition, the following matter will also be considered:

• Other matters relating to examination matters and enforcement proceedings.

CONTACT PERSON FOR MORE INFORMATION: For further information and to ascertain what, if any, matters have been added, deleted or postponed, please contact the Office of the Secretary at (202) 551-5400.

Dated: January 13, 2021.
Vanessa A. Countryman,
Secretary.

[FR Doc. 2021-01101 Filed 1-13-21; 4:15 pm]

BILLING CODE 8011-01-P